DEPARTMENT OF ENERGY

[Docket Nos. EA-237 and EA-238]

Applications to Export Electric Energy; Allegheny Energy Supply Company, LLC

AGENCY: Office of Fossil Energy, DOE.

ACTION: Notice of application.

SUMMARY: Allegheny Energy Supply Company, LLC (Allegheny) has applied for authority to transmit electric energy from the United States to Mexico and to Canada pursuant to section 202(e) of the Federal Power Act.

DATES: Comments, protests or requests to intervene must be submitted on or before May 31, 2001.

ADDRESS: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-6667.

SUPPLEMENTARY INFORMATION: Exports of electricity from the United States to a foreign country are regulated and require authorization under section 202(e) of the Federal Power Act (FPA) (16 U.S.C. 824a(e)).

On, April 9, 2001, the Office of Fossil Energy (FE) of the Department of Energy (DOE) received separate applications from Allegheny to transmit electric energy from the United States to Mexico and to Canada. Allegheny is a limited liability company formed under Delaware law. Allegheny's sole member is Allegheny Energy, Inc., an electric utility holding company registered under the Public Utility Holding Company Act of 1935. As part of the Allegheny Energy, Inc. holding company system, Allegheny is affiliated with three franchised electric utilities: Monongahela Power Company; The Potomac Edison Company; and West Penn Power Company.

Allegheny owns and operates electric power generation facilities and their associated transmission facilities. However, Allegheny does not have a franchised electric power service area. Allegheny operates as a marketer and broker of electric power at wholesale and arranges services in related areas such as transmission services. Allegheny will generate or purchase the power to be exported from electric utilities and federal power marketing agencies as defined in Section 3(22) and (19) (16 U.S.C. 796 (22) and (19) of the FPA. Allegheny proposes to transmit to Mexico and to Canada electric energy purchased from electric utilities and other suppliers within the U.S. Allegheny requests the export authorization be issued for five years.

In FE Docket EA-237, Allegheny proposes to arrange for the delivery of electric energy to Mexico over the international transmission facilities owned by San Diego Gas & Electric Company, El Paso Electric Company, Central Power and Light Company, and Comision Federal de Electricidad, the national electric utility of Mexico.

In FE Docket EA-238, Allegheny proposes to arrange for the delivery of electric energy to Canada over the international transmission facilities owned by Basin Electric Power Cooperative, Bonneville Power Administration, Citizens Utilities, Eastern Maine Electric Cooperative, International Transmission Company (formally Detroit Edison Company), Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by Allegheny, as more fully described in the applications, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Allegheny application to export electric energy to Mexico should be clearly marked with Docket EA-237. Comments on the Allegheny application to export electric energy to Canada should be clearly marked with Docket EA-238. Additional copies are to be filed directly with Daniel L. Gordon, President, Allegheny Energy Global Markets, LLC, 2 World Financial Center, 36th Floor, New York, NY 10080 and Patricia J. Clark, Esq., Allegheny Energy Supply Company, LLC, 4350 Northern Pike, Monroeville, PA 15146.

A final decision will be made on these applications after the environmental impacts have been evaluated pursuant to the National Environmental Policy Act of 1969 (NEPA) and a determination is made by the DOE that the proposed actions will not adversely impact on the reliability of the U.S. electric power supply system.

Copies of these applications will be made available, upon request, for public inspection and copying at the address provided above or by accessing the Fossil Energy Home Page at http://www.fe.doe.gov. Upon reaching the Fossil Energy Home page, select “Regulatory”, then “Electricity”, then “Pending Proceedings” from the options menus.

Issued in Washington, DC, on April 25, 2001.
Anthony J. Como,
Deputy Director, Electric Power Regulation, Office of Coal & Power Im/Ex, Office of Coal & Power Systems, Office of Fossil Energy.

[FR Doc. 01-10772 Filed 4-30-01; 8:45 am]

BILLING CODE 6450-01-P